DEPARTMENT OF AGRICULTURE

Food Safety and Inspection Service

[Docket No. FSIS-2011-0013]

Availability of Final Compliance Guide for the Use of Video or Other Electronic Monitoring or Recording Equipment in Federally Inspected Establishments

AGENCY: Food Safety and Inspection Service, USDA.

ACTION: Notice of availability.

SUMMARY: The Food Safety and Inspection Service (FSIS) is announcing the availability of the final compliance guide on the use of video or other electronic monitoring or recording equipment in federally inspected establishments. FSIS has received Office of Management and Budget (OMB) approval of information collection under the Paperwork Reduction Act (PRA) related to Hazard Analysis and Critical Control Point (HACCP) and Sanitation Standard Operating Procedures (Sanitation SOP) video records. FSIS made changes to the final compliance guide based on comments received on the draft guide. FSIS has posted this final compliance guide on its Significant Guidance Documents Web page (http://www.fsis.usda.gov/Significant_Guidance/index.asp).

DATES: Effective Date: August 31, 2011.

FOR FURTHER INFORMATION CONTACT: Isabel Arrington, U.S. Department of Agriculture (USDA), FSIS, by phone at (402) 344-5000 or by e-mail at Isabel.Arrington@fsis.usda.gov.

SUPPLEMENTARY INFORMATION:

Background

On October 15, 2010 (75 FR 63434), FSIS posted on its Web site a draft guide on the use of video or other electronic monitoring or recording equipment in federally inspected establishments. The Agency issued the document as a draft guide because it needed Office of Management and Budget PRA approval on the information collection and stated that when it received OMB approval on the information collection, it would issue a final guide. FSIS also solicited comments on the compliance guide. FSIS now has OMB approval. The OMB approval number is 0583-0103. The guide is final, and establishments can use the recommendations in this guide on the use of video or other electronic monitoring or recording equipment for monitoring operations and facilities. The final compliance guide reflects comments received.

This compliance guide provides information to industry to help it maintain compliance with Federal regulations, including humane treatment of livestock and the use of good commercial practices in poultry.

FSIS is providing this guide to advise establishments that video or other electronic monitoring or recording equipment can be used in federally inspected establishments. This guide informs establishments of the Agency's expectations if they decide to use this type of equipment to create records to meet the requirements of the HACCP regulations, or the regulations governing Sanitation SOPs. In addition, this guide provides information on issues establishments should consider if they use this equipment for any other purpose, such as part of their food defense plans.

Comments

FSIS received a total of 1,217 comments on the draft compliance guide. Of those comments, 813 were a letter campaign form requesting that the use of video be mandated in establishments. In addition, 400 of them were general statements that video use should be made mandatory in establishments or expressed concerns about humane handling and worker safety. Another individual commented that FSIS should also require an accredited third party to audit the required video use in establishments.

Requiring video cameras in establishments is not necessary to ensure that animals are handled humanely in conjunction with slaughter. FSIS inspection program personnel (IPP) verify that establishments are meeting regulatory requirements for humane handling in livestock slaughter and good commercial practices in poultry slaughter. Worker safety issues are outside the scope of the compliance guide. Establishments that have video or electronic monitoring or recording equipment may choose to have a third party audit their use of such equipment.

Additionally, one meat and poultry trade association and one video company, recommended the guide state more clearly that the following video records are not subject to routine access by FSIS: Video records not designated by establishments for use in their HACCP plan or Sanitation SOPs, video records that are used for food defense security, or video records that are used for other purposes in which recordkeeping is not required. In addition, these commenters requested a reference to congressional testimony by the video company regarding video systems and their use in the final compliance guide.

The final guide makes clearer which video records are subject to routine access by FSIS. Such records would include HACCP and Sanitation SOP records and records associated with other programs that are prerequisites to HACCP. FSIS did not include the reference to the congressional testimony by the video company in the final compliance guide because including that testimony would highlight one specific company.

A commenter from a non-profit organization for humane handling of animals and birds recommended that the guide state that video technology serves as a supplemental tool for establishments' humane handling and good commercial practice activities. The commenter also recommended that the guide state the importance of effective implementation of video monitoring to result in trustworthy and accurate information that helps to prevent inhumane treatment or poor commercial practices. Also, the commenter recommended that cameras for video should be positioned and operating in such a way to allow continuous viewing of all steps from unloading to stunning of livestock and poultry.

FSIS made changes in the final guide to address those comments.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that minorities, women, and persons with disabilities are aware of this notice, FSIS will announce it online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/News_&_Events/Email_Subscription/. Options range from recalls to export information to regulations, directives and notices. Customers can add or delete subscriptions themselves, and have the option to password protect their accounts.

Alfred V. Almanza,
Administrator.

[FR Doc. 2011-22286 Filed 8-30-11; 8:45 am]

BILLING CODE 3410-DM-P